DEPARTMENT OF TRANSPORTATION

Federal Railroad Administration

Programmatic Environmental Impact Statement for the Coachella Valley—San Gorgonio Pass Rail Corridor Service: Riverside, San Bernardino, Orange, and Los Angeles Counties, CA

AGENCY: Federal Railroad Administration (FRA), U.S. Department of Transportation (DOT).

ACTION: Notice of Intent (NOI) to prepare a Programmatic Environmental Impact Statement (EIS).

SUMMARY: Through this NOI, FRA announces it will prepare a Programmatic EIS and Environmental Impact Report (EIR) jointly with the Riverside County Transportation Commission (RCTC) and the California Department of Transportation (Caltrans) for the Coachella Valley—San Gorgonio Pass Rail Corridor Service (Project). FRA, RCTC, and Caltrans will develop the Programmatic EIS/EIR in compliance with the National Environmental Policy Act of 1969 (NEPA), and the California Environmental Quality Act (CEQA). FRA invites the public and Federal, state, and local agencies to provide input into the scope of the EIS/EIR and will consider all information from outreach activities when preparing the EIS/EIR. The Project will study options for providing intercity passenger rail service between the cities of Los Angeles and Indio, California also known as the Coachella Valley—San Gorgonio Pass Corridor (the Corridor).

DATES: Persons interested in providing written comments on the scope of the Coachella Valley—San Gorgonio Pass Rail Corridor Service Project must do so by November 10, 2016.

Three public scoping meetings are scheduled for Wednesday, October 12, 2016; Thursday, October 13, 2016; and Monday, October 17, 2016.

ADDRESSES: Interested persons should send written comments to FRA's Office of Program Delivery, 1200 New Jersey Avenue SE. (Mail Stop 20), Washington, DC 20590, or Riverside County Transportation Commission (RCTC), 4080 Lemon Street, 3rd Floor, Riverside, California 92501, or via email to Robert Yates, Multimodal Services Director, CoachellaValleyRail@ArellanoAssociates.com. Comments should include “Coachella Valley—San Gorgonio Pass Rail Corridor Service—NOI Scoping Comments” in the subject line.

Interested persons may also provide comments orally or in writing at the following scoping meetings:

• Springbrook Club House at Reid Park: 1101 N. Orange Street Riverside, CA 92501, between 5:00 p.m. and 7:00 p.m.;

• Indio Senior Center: 45-700 Aladdin Street, Indio, CA 92201, between 5:00 p.m. and 7:00 p.m.; and

• Metro Headquarters, Plaza Level: One Gateway Plaza, Los Angeles, California 90012, between 5:00 p.m. and 7:00 p.m.

All scoping meeting locations are Americans with Disabilities Act of 1990 (ADA) accessible. Spanish language translators will be present. You may call (909) 627-2974 at least 72 hours in advance of the meeting to request other accommodations or translation services.

FOR FURTHER INFORMATION CONTACT: Ms. Stephanie Perez, Environmental Protection Specialist, Office of Program Delivery, Federal Railroad Administration, 1200 New Jersey Avenue SE. (Mail Stop 20), Washington, DC 20590; Telephone: (202) 493-0388, email: stephanie.perez@dot.gov, or Robert Yates, Multimodal Services Director, at CoachellaValleyRail@ArellanoAssociates.com.

Scoping materials and information concerning the scoping meeting is available through RCTC's Web site: http://rctc.org/projects/rail-projects/coachella-valley-san-gorgonio-pass-corridor-rail-service.

SUPPLEMENTARY INFORMATION: FRA is an operating administration of DOT and is responsible for overseeing the safety of railroad operations, including the safety of any proposed rail transportation system. FRA also provides financial assistance for intercity passenger rail capital investments.

FRA is the lead agency under NEPA for the Project. FRA will prepare the Programmatic EIS/EIR consistent with NEPA, the Council on Environmental Quality regulations implementing NEPA (40 CFR parts 1500-1508), and FRA's Procedures for Considering Environmental Impacts (64 FR 28545, May 26, 1999; 78 FR 2713, Jan. 14, 2013) (Environmental Procedures). FRA, RCTC, and Caltrans will prepare the EIS consistent with 23 U.S.C. 139 (titled “Efficient environmental reviews for project decision making”). RCTC and Caltrans will ensure the EIR is consistent with CEQA. After release and circulation of a Draft Programmatic EIS/EIR for public comment, FRA will issue a single document consisting of the Final Programmatic EIS and a Record of Decision under the Fixing America's Surface Transportation Act (Pub. L. 114-94, section 1304(n)(2)) unless it determines that statutory criteria or practicability considerations prelude issuing a combined document.

The EIS will also document FRA's compliance with other applicable Federal, state, and local laws including, Section 106 of the National Historic Preservation Act, Section 4(f) of the U.S. Department of Transportation Act of 1966, the conformity requirements of the Clean Air Act, and Executive Order 12898 and U.S. DOT Order 5610.2(a) on Environmental Justice. FRA, RCTC, and Caltrans will use a tiered NEPA process (e.g. Programmatic EIS/EIR) to complete the environmental review of the Project, under 40 CFR 1508.28 (titled “Tiering”) and FRA's Environmental Procedures.

“Tiering” is a staged environmental review process often applied to environmental review for complex transportation projects. When used, the initial phase of a tiered process addresses broad questions and likely environmental effects for the Corridor including, but not limited to, the type of service(s) being proposed, major infrastructure components, and identification of major facility capacity constraints. Based on the decisions made in the Programmatic EIS/EIR, future site-specific proposals would be analyzed at a greater level of detail and addressed in subsequent phases or tiered (e.g. Project-level NEPA and CEQA) environmental documents.

Project Description and Background

The Project would extend from an eastern terminus in Indio, California to the western terminus at Los Angeles Union Station (LAUS), and is approximately 141 miles long. In 1991, RCTC completed the first in a series of studies evaluating the feasibility of operating one or two daily intercity rail round trips between Los Angeles and Indio. From 1991 to 2013, RCTC completed additional feasibility studies on the Coachella Valley—San Gorgonio Pass Rail Corridor Service. In July 2016, RCTC, in coordination with Caltrans and FRA, prepared and completed the Coachella Valley—San Gorgonio Pass Rail Corridor Service Study Alternatives Analysis Final Report that evaluated a reasonable range of alternatives for a new intercity rail service between Los Angeles and Indio. The purpose of the Alternatives Analysis was to identify an alternative(s) for more detailed evaluation in a subsequent Service Development Plan and Programmatic EIS/EIR.

Project Need

The Corridor currently faces significant mobility challenges that are likely to continue as growth in population, employment, and tourism activity is expected to increase travel demand. An effective rail system will help meet the future mobility needs of residents, businesses, and visitors. The Corridor faces continuing transportation challenges as evidenced by the following:

Constrained Travel Options—While a transportation system that includes air, highway, and rail modes, serves the Corridor, access and capacity are presently constrained along certain segments and may be unable to meet future travel demand. Air access is limited for many residents due to distance from major airports, frequency, and high cost of flights between the Coachella Valley region and Los Angeles. Interstate 10 is the only major highway that serves the eastern portion of the Corridor. Amtrak offers limited long distance passenger train service three times a week with a stop in Palm Springs late at night.

Significant Highway Congestion—While travel by car is expected to meet the majority of future travel demand, increased use will result in additional congestion. Congestion along certain highway segments of the Corridor is likely to worsen, making travel times unreliable. Interstate 10 follows the entirety of the Corridor and experiences regular congestion and travel delays. In addition, geographic constraints limit the potential expansion of the existing highway system.

Constrained Rail System Capacity—Existing corridor rail service could accommodate an increasing portion of projected travel demand growth by providing an alternative mode to car travel. However, rail service is currently constrained and existing infrastructure would need to be upgraded to provide adequate main track capacity for additional passenger trains.

Increase Travel Capacity Without Impacting Air Quality and Natural Resources - Highway capacity improvements can have negative impacts on regional and local air quality as well as the efficient use of natural resources. Rail system improvements offer the opportunity to achieve air quality benefits with fewer potential impacts on natural resources.

Project Purpose and Objectives

The overall purpose of the Project is to provide a safe, reliable, and convenient intercity passenger rail service that would meet the future mobility needs of residents, businesses, and visitors within the Corridor. The Project would achieve the following objectives:

• Provide travelers between the Coachella Valley and the Los Angeles Basin with a public transportation service that offers more convenient and competitive trip times, better station access, and more frequency, than currently-available public transportation services;

• Provide travelers between the Coachella Valley and the Los Angeles Basin with an alternative to driving that offers reliable travel schedules;

• Provide travelers between the Coachella Valley and the Los Angeles Basin with a transportation service that is affordable;

• Serve a range of trip purposes traveling between the Coachella Valley and the Los Angeles Basin, particularly including business, social, medical, leisure, and recreational trips;

• Improve regional travel opportunities between the Coachella Valley and the Los Angeles Basin for transit dependent people;

• Serve the expected population growth in the Coachella Valley and the Los Angeles Basin; and

• Not preclude, by choice of alignment or technology, a possible future Corridor expansion between the Coachella Valley and Phoenix.

The Project would provide enhanced passenger rail service and is consistent with State and regional efforts to reduce mobile source emissions associated with highway and truck traffic on parallel highways from Los Angeles to Indio. These efforts are anticipated to help the Southern California Association of Governments (SCAG) and RCTC meet the air pollution and greenhouse gas emission reduction targets mandated by California Assembly Bill 32, known as the Global Warming Solutions Act of 2006, as amended, and California Senate Bill 375, known as the California's Sustainable Communities and Climate Protection Act of 2008. These two laws establish the basis for SCAG and RCTC to accommodate regional growth through increased and more frequent access to alternative modes of transit for local communities.

Proposed Project Alternatives

In the Programmatic EIS/EIR FRA, RCTC, and Caltrans will evaluate and analyze a No Build Alternative and at least one Build Alternative consisting of multiple improvements between Indio and Los Angeles.

No Build Alternative—The No Build Alternative provides a baseline for comparison to the Build Alternative. This alternative represents the existing California transportation system (highway, air, and rail) as it would exist after completion of programs or projects currently funded or being implemented. The No Build Alternative would draw upon the following sources of information:

• State Transportation Improvement Program (2016);

• Regional Transportation Plans for all modes of travel;

• Airport plans; and

• Passenger rail plans.

Build Alternative—The Build Alternative would include the necessary infrastructure improvements to meet the Project's purpose and need. The Build Alternative is made up of two components, a route alignment and station alternatives.

FRA, RCTC, and Caltrans will consider the July 2016 Alternatives Analysis Final Report when identifying the Build Alternative(s) for detailed analysis in the Programmatic EIS/EIS. However, additional reasonable build alternatives meeting the proposed purpose and need but not considered in the July 2016 Alternatives Analysis Final Report may be developed during the scoping process. This may also involve refining the Build Alternative as more information comes available based on the environmental analysis and coordination with stakeholders and the public. Additionally, the proposed purpose and need may be updated and/or refined based on coordination with stakeholders and the public.

Probable Effects

The Programmatic EIS/EIR will consider the potential environmental effects of the Project Alternatives. FRA, RCTC, and Caltrans will analyze the following environmental issue areas in the Programmatic EIS/EIR: Agricultural Lands; Air Quality and Global Climate Change; Biological and Wetland Resources; Cultural and Historic Resources; Economic and Fiscal Impacts; Energy; Environmental Justice; Floodplains, Hydrology, and Water Quality; Geology, Soils, and Seismicity; Hazardous Waste and Materials; Land Use, Planning, and Communities; Noise and Vibration; Parklands, Community Services, and Other Public Facilities; Safety and Security; Section 4(f) and 6(f) Resources; Transportation; and Visual Quality and Aesthetics.

Scoping and Comments

FRA encourages broad participation in the EIS process during scoping and review of the resulting environmental documents. FRA invites all interested agencies, Native American Tribes, and the public at large to participate in the scoping process to ensure the Programmatic EIS/EIR addresses the full range of issues related to the proposed action, reasonable alternatives are addressed, and all significant issues are identified. FRA requests any public agency having jurisdiction over an aspect of the Project identify the agency's permit or environmental review requirements and the scope and content of the environmental information germane to the agency's jurisdiction over the Project. FRA requests public agencies advise FRA if they anticipate taking a major action in connection with the proposed project and if they wish to cooperate in the preparation of the Programmatic EIS/EIR.

FRA will coordinate with participating agencies during development of the Draft Programmatic EIS under 23 U.S.C. 139. FRA will invite all Federal and non-Federal agencies and Native American Tribes that may have an interest in the Project to become participating agencies for the EIS. If an agency or Tribe is not invited and would like to participate, please contact FRA at the contact information listed above. FRA will develop a Coordination Plan summarizing how it will engage the public, agencies, and Tribes in the process. The Coordination Plan will be posted to the Project Web site http://rctc.org/projects/rail-projects/coachella-valley-san-gorgonio-pass-corridor-rail-service and to FRA's Web site fra.dot.gov. At various milestones during the development of the Programmatic EIS/EIR, FRA, RCTC, and Caltrans will provide additional opportunities for public and interested party input.

FRA, RCTC, and Caltrans have scheduled three public scoping meetings as an important component of the scoping process for both the state and Federal environmental review. The scoping meetings described in the ADDRESSES section will also be advertised locally and included in additional public notification. The format of the meeting will consist of a presentation describing the proposed Coachella Valley—San Gorgonio Pass Corridor Service Project, objectives, and existing conditions. Following the presentation, scoping meeting attendees will be able to participate in an open house format that encourages questions and comments on the Project from the public.

Felicia Young,
Acting Director, Office of Program Delivery.

[FR Doc. 2016-24597 Filed 10-6-16; 4:15 pm]

BILLING CODE 4910-06-P